DEPARTMENT OF ENERGY

Federal Energy Regulatory Commission

[Docket No. CP12-500-000]

CenterPoint Energy Gas Transmission Company, LLC; Notice of Request Under Blanket Authorization

Take notice that on August 15, 2012, CenterPoint Energy Gas Transmission Company, LLC (CenterPoint), 1111 Louisiana Street, Houston, Texas 77002, filed a prior notice request pursuant to sections 157.208, 157.211, and 157.216 of the Commission's regulations under the Natural Gas Act (NGA) and CenterPoint's blanket certificate issued in Docket Nos. CP82-384-000 and CP82-384-001 for authorization to replace and abandon certain deteriorated facilities located in Nevada County, Arkansas (Line A Replacement Project). Specifically, CenterPoint proposes to: (1) Replace a 7.3-mile, 18-inch and 20-inch diameter pipeline segment of Line A having an MAOP of 350 psig with 7.4 miles of new 12-inch diameter pipeline having an MAOP of 1000 psig; (2) extend Line A to a new replacement delivery point by constructing 0.7 miles of 12-inch diameter pipeline; (3) install replacement delivery taps and other appurtenant facilities; and (4) abandon two small lines—Line AM-189 (205 feet of 2-inch diameter line) and Line AM-10 (204 feet of 6-inch diameter line)—as well as certain metering and appurtenant facilities. It is indicated that the Line A Replacement Project will create no new capacity and CenterPoint states that the project is necessary to continue to provide safe and reliable transportation services. The project is estimated to cost approximately $8.1 million, all as more fully set forth in the application which is on file with the Commission and open to public inspection.

Any questions concerning this application may be directed to Michelle Willis, Manager, Regulatory & Compliance, CenterPoint Energy Gas Transmission Company, LLC, P.O. Box 21734, Shreveport, Louisiana 71151, or call (318) 429-3708, or email at Mitchelle.Willis@CenterPointEnergy.com.

Any person may, within 60 days after the issuance of the instant notice by the Commission, file pursuant to Rule 214 of the Commission's Procedural Rules (18 CFR 385.214) a motion to intervene or notice of intervention. Any person filing to intervene or the Commission's staff may, pursuant to section 157.205 of the Commission's regulations under the NGA (18 CFR 157.205) file a protest to the request. If no protest is filed within the time allowed, the proposed activity shall be deemed to be authorized effective the day after the time allowed for protest. If a protest is filed and not withdrawn within 30 days after the time allowed for filing a protest, the instant request shall be treated as an application for authorization pursuant to section 7 of the NGA.

This filing is available for review at the Commission or may be viewed on the Commission's web site at http://www.ferc.gov, using the “eLibrary” link. Enter the docket number excluding the last three digits in the docket number filed to access the document. For assistance, please contact FERC Online Support at FERC OnlineSupport@ferc.gov or call toll-free at (866) 206-3676, or, for TTY, contact (202) 502-8659. Comments, protests and interventions may be filed electronically via the Internet in lieu of paper. See, 18 CFR 385.2001(a)(1)(iii) and the instructions on the Commission's web site under the “e-Filing” link. The Commission strongly encourages intervenors to file electronically.

Dated: August 28, 2012.
Kimberly D. Bose,
Secretary.

[FR Doc. 2012-21662 Filed 8-31-12; 8:45 am]

BILLING CODE 6717-01-P